DEPARTMENT OF HOUSING AND URBAN DEVELOPMENT

24 CFR Parts 982 and 983

[Docket No. FR-3482-C-08]

RIN 2501-AB57

Requirements for Notification, Evaluation and Reduction of Lead-Based Paint Hazards in Housing Receiving Federal Assistance and Federally Owned Residential Property Being Sold; Correction

AGENCY: Office of the Secretary—Office of Lead-Hazard Control, HUD.

ACTION: Correction.

SUMMARY: This document makes several corrections to HUD's September 15, 1999 final rule implementing sections 1012 and 1013 of the Residential Lead-Based Paint Hazard Reduction Act of 1992. Specifically, this document corrects two typographical errors contained in the September 1, 1999 final rule that regard the Section 8 Housing Choice Voucher program and the Section 8 Project-Based Certificate program.

DATES: Effective date: September 15, 2000.

FOR FURTHER INFORMATION CONTACT: Gerald J. Benoit, Director, Real Estate and Housing Performance Division, Office of Public and Indian Housing, Department of Housing and Urban Development, Room 4220, 451 Seventh Street, SW, Washington, DC 20410; telephone (202) 708-0477, extension 4069 (this is not a toll-free number). Hearing or speech impaired individuals may access this number via TTY by calling the toll-free Federal Information Relay Service at 1-800-877-8339.

SUPPLEMENTARY INFORMATION: On September 15, 1999, HUD published a final rule (64 FR 50140) that implements sections 1012 and 1013 of the Residential Lead-Based Paint Hazard Reduction Act of 1992 (42 U.S.C. 4851 et seq.). The purpose of the rule is to ensure that Federally-owned or assisted housing does not pose lead-based paint hazards to young children. The majority of the provisions contained in the final rule will become effective on September 15, 2000 (one year following the date of publication). This document corrects two typographical errors contained in the September 15, 1999 final rule that regard the Section 8 Housing Choice Voucher program (codified at 24 CFR part 982) and the Section 8 Project-Based Certificate program (codified at 24 CFR part 983). The corrections made by this document are as follows:

1. Correction to § 982.305 (PHA approval of assisted tenancy). This document corrects a typographical error contained in § 982.305(b) of the September 15, 1999 final rule. The September 15, 1999 final rule amended paragraph (b)(3) of § 982.305 to reference the lead-based disclosure information required under 24 CFR 35.92(b). This reference is more appropriately set forth in paragraph (b)(1)(ii) of § 982.305. This document makes the necessary correction. As corrected by this document, 982.305(b)(1)(ii) provides that, before the beginning of the initial term of the lease for the unit, the landlord and the tenant must have executed the lease (including the HUD-prescribed tenancy addendum, and the lead-based paint disclosure information as required in 24 CFR 35.13(b)).

2. Correction to § 983.1 (Purpose and applicability). This document corrects a typographical error contained in § 983.1 of the September 15, 1999 final rule. Paragraph (b) of § 983.1 describes the provisions of 24 CFR part 982 that apply to the Section 8 Project-Based Certificate program. The September 15, 1999 final rule amended § 983.1(b) by adding a citation to § 982.401(j). However, the citation did not explain to readers that § 982.401(j) contains applicable lead-based paint requirements. This document adds a parenthetical after the citation to clarify this point.

Accordingly, in the final rule captioned “Requirements for Notification, Evaluation and Reduction of Lead-Based Paint Hazards in Federally Owned Residential Property and Housing Receiving Federal Assistance,” FR Document 99-23016, beginning at 64 FR 50140, in the issue of Wednesday, September 15, 1999, the following corrections are made:

1. On page 50229, in the third column, regulatory amendment 88 is corrected to read as follows:

88. Revise § 982.305(b)(1)(ii) to read as follows:

§ 982.305 PHA approval of assisted tenancy.

* * * * *

(b) * * *

(1) * * *

(ii) The landlord and the tenant have executed the lease (including the HUD-prescribed tenancy addendum, and the lead-based paint disclosure information as required in § 35.13(b) of this title); and

* * * * *

2. On page 50230, in the first column, § 983.1(b)(2)(vii) is corrected to read as follows:

§ 983.1 Purpose and applicability.

* * * * *

(b) * * *

(2) * * *

(vii) In subpart I of this part, § 982.401(j) (lead-based paint requirements); § 982.402(a)(3), § 982.402(c) and (d) (Subsidy standards); and § 982.403 (Terminating HAP contract when unit is too small);

* * * * *

Dated: March 22, 2000.
Harold Lucas,
Assistant Secretary for Public and Indian Housing.

[FR Doc. 00-7641 Filed 3-29-00; 8:45 am]

BILLING CODE 4210-32-P